DEPARTMENT OF JUSTICE

Federal Bureau of Prisons

Notice of Availability of the Environmental Assessment for New Low Security Beds

AGENCY: U.S. Department of Justice, Federal Bureau of Prisons.

ACTION: Public comment on environmental assessment.

SUMMARY: The U.S. Department of Justice, Federal Bureau of Prisons (BOP) announces the availability of the Environmental Assessment (EA) prepared for the proposed contract to secure additional inmate bed space for the BOP's growing inmate population.

As part of an initiative (known as the Criminal Alien Requirement), the BOP has identified a specific requirement to confine a population of approximately 1,000 low-security adult male inmates that are primarily criminal aliens. The BOP is seeking to reduce prison overcrowding by requesting additional contract beds for low-security male criminal aliens.

In accordance with the National Environmental Policy Act (NEPA) of 1969, the Council of Environmental Quality Regulations (40 CFR parts 1500-1508), and the Department of Justice procedures for implementing NEPA (28 CFR part 61), the BOP has prepared an EA to evaluate the proposed action of contracting with one private contractor to house approximately 1,000 Federal, low-security, adult male, non-U.S. citizen, criminal aliens at a contractor-owned, contractor-operated correctional facility.

The BOP's EA evaluates the potential environmental consequences of five action alternatives and the No Action Alternative. Natural, cultural, and socioeconomic resource impacts associated with the implementation of the proposed action at each of the proposed alternative locations were analyzed to determine how these resources may be affected by contracting for an existing correctional facility to house BOP inmates.

The alternatives considered for this proposed action include: Lee Adjustment Center, Beattyville, Kentucky; Limestone County Detention Center, Groesbeck, Texas; Jackson Parish Correctional Center, Jonesboro, Louisiana; Pine Prairie Correctional Center, Pine Prairie, Louisiana; or the Jack Harwell Detention Facility, Waco, Texas. Inmates housed in these facilities would be aliens from any number of countries who have committed crimes within the U.S. and are being held for trial, or who have been convicted and sentenced to serve time within the Federal prison system. Upon completion of their sentences, these inmates would be deported to their country of origin.

Request for Comments: The BOP invites your participation and is soliciting comments on the EA. The EA will be the subject of a 30-day comment period which begins January 28 and ends February 28, 2011. Comments concerning the EA and the proposed action must be received during this time to be assured consideration. All written comments received during this review period will be taken into consideration by the BOP. Copies of the EA are available for public viewing at:

• County of Lee Public Library, 123 Center Street, Beattyville, KY.

• Groesbeck Public Library (Maffet Memorial Library), 601 W. Yeagua Street, Groesbeck, TX.

• Jackson Parish Library, 614 S Polk Avenue, Jonesboro, LA.

• Evangeline Parish Library: Pine Prairie Branch, 1111 Walnut Street, Pine Prairie, LA.

• South Waco Library, 2737 S 18th Street, Waco, TX.

• East Waco Library, 901 Elm Avenue, Waco, TX.

The EA is available upon request. To request a copy of the EA, please contact: Richard A. Cohn, Chief, or Issac J. Gaston, Site Selection Specialist, Capacity Planning and Site Selection Branch, Federal Bureau of Prisons, 320 First Street, NW., Washington, DC 20534 Tel: 202-514-6470, Fax: 202-616-6024/E-mail: rcohn@bop.gov or igaston@bop.gov.

FOR FURTHER INFORMATION CONTACT: Richard A. Cohn, or Issac J. Gaston, Federal Bureau of Prisons.

Dated: January 19, 2011.
Issac Gaston,
Site Specialist, Capacity Planning and Site Selection Branch.

[FR Doc. 2011-1371 Filed 1-27-11; 8:45 am]

BILLING CODE P